DEPARTMENT OF THE INTERIOR

Fish and Wildlife Service

Notice of Availability of a Draft Environmental Assessment and Habitat Conservation Plan and Receipt of an Application for an Incidental Take Permit From the Interagency Task Force Proposing the Six Points Road Interchange and Related Development in Marion and Hendricks Counties, IN

AGENCY: Fish and Wildlife Service, Interior.

ACTION: Notice of availability.

SUMMARY: This notice advises the public and other agencies of the availability of a draft Habitat Conservation Plan (HCP) and Incidental Take Permit (ITP) application for review and comment. The HCP and ITP application were submitted to the U.S. Fish and Wildlife Service (Service) by an Interagency Task Force proposing to construct a new interchange on Interstate 70 (I-70) in the vicinity of Six Points Road and related development in Hendricks and Marion Counties, Indiana. A colony of federally-endangered Indiana bats (Myotis sodalis) occupies the project area during summer and it has been determined that the proposed actions will result in incidental take. On September 28, 2001 the Task Force submitted an application to the Service for a permit for incidental take pursuant to section 10(a)(1)(B) of the Endangered Species Act of 1973 (Act), as amended (Act, 16 U.S.C. 1531, et seq.). The submission of the (ITP) application required the development of an HCP by the applicants detailing measures to be taken to avoid, minimize, and mitigate impacts to Indiana bats. If issued, the ITP would authorize incidental take of Indiana bats resulting from proposed road construction, commercial development, and airport expansion and improvements. The requested term of the permit is 15 years.

Prior to issuing the ITP, the Service is required to analyze alternatives considered in the development of the HCP. This analysis is contained in a draft Environmental Assessment (EA), as required by the National Environmental Policy Act (NEPA), for the Federal action in issuance of a permit under section 10(a)(1)(B) of the Act. This draft EA is also available for public review and comment. This notice is provided pursuant to section 10(a) of the Act and National Environmental Policy Act regulations (40 CFR 1506.6).Copies of the draft HCP and EA may be obtained by making a request to Regional HCP Coordinator, at the address below.

DATES: Written comments must be received on or before January 22, 2002.

ADDRESSES: Persons wishing to review the documents may obtain copies by writing, telephoning, faxing, or e-mailing: Regional HCP Coordinator, U.S. Fish and Wildlife Services, 1 Federal Drive, Fort Snelling, MN 55111-4056, Telephone: (612) 713-5343, Fax: (612) 713-5292. The EA is also available at the following Internet address: http://midwest.fws.gov/nepa/.

Public Involvement: Documents will be available for public inspection during normal business hours (8:00-4:30), at the U.S. Fish and Wildlife Service Regional Office in Fort Snelling, Minnesota, and at the Bloomington Field Office in Bloomington, Indiana. The draft HCP and EA are available for public review and comment for a period of 60 days.

All comments received from individuals become part of the official public record. Requests for such comments will be handled in accordance with the Freedom of Information Act and the Council on Environmental Quality's NEPA regulations (40 CFR 1506.6(f)). Our practice is to make comments, including names and home addresses of respondents, available for public review during regular business hours. Individual respondents may request that we withhold their home address from the record, which we will honor to the extent allowable by law. If a respondent wishes us to withhold his/her name and/or address, this must be stated prominently at the beginning of the comment.

FOR FURTHER INFORMATION CONTACT: Mr. Peter Fasbender, Regional HCP Coordinator, U.S. Fish and Wildlife Service, Fort Snelling, Minnesota, Telephone: (612) 713-5343, or e-mail peter_fasbender@fws.gov.

SUPPLEMENTARY INFORMATION: Section 9 of the Act and Federal regulations prohibit “take” of fish or wildlife species listed as endangered or threatened. Take of listed fish or wildlife is defined under the Act to mean harass, harm, pursue, hunt, shoot, wound, kill, trap, capture, collect, or to attempt to engage in any such conduct (16 U.S.C. 1538). Harm may include significant habitat modification where it actually kills or injures wildlife by significantly impairing essential behavioral patterns, including, breeding, feeding, and sheltering (50 CFR 17.3(c)). The Service may, under limited circumstances, issue permits to take listed species, provided such take is incidental to, and not the purpose of, an otherwise lawful activity. Regulations governing permits for endangered species are found in 50 CFR 17.22.

Background on Habitat Conservation Plan

An Interagency Task Force composed of the Indianapolis Airport Authority, the Indianapolis Department of Public Works, the Indianapolis Department of Metropolitan Development, the Federal Highway Administration, the Indiana Department of Transportation, and the Hendricks County Board of County Commissioners proposes to construct a new interchange on I-70 and associated highway improvements near Six Points Road in Hendricks and Marion Counties, Indiana. Additional development will occur in the area in association with the road construction, including expansion and improvements at the Indianapolis International Airport, and commercial and industrial development within the AmeriPlex area south of I-70.

At least one maternity colony of Indiana bats is known to utilize scattered patches of high quality habitat within the proposed project area during the summer. Within the HCP boundary, 343 acres will be cleared for the proposed project, including 146 acres of mature forest, 119 acres of widely scattered trees (e.g., former residential lawns), 69 acres of sparsely forested areas (e.g., wooded pasture) or immature woodlots, and 10 acres of linear forested habitat (e.g., fencerows). The mature forest provides high quality Indiana bat roosting and foraging habitat. Potential roosting habitat exists in those areas with mature trees, while foraging habitat is located throughout the project area. Incidental take of Indiana bats is expected to occur from the loss and degradation of roosting and foraging habitat, resulting in reduced reproduction and overwinter survival, and the decreased fitness of individuals.

The purpose of the HCP is to ensure incidental take will be minimized and mitigated to the maximum extent practicable and will not appreciably reduce the likelihood of the survival and recovery of this species in the wild. The Task Force designed the HCP in consultation with the Service to ensure the project area and adjoining areas used by Indiana bats will continue to support suitable habitat for the species, while allowing for incidental take of Indiana bats from the proposed activities. Measures in the HCP designed to avoid, minimize, and mitigate the impacts of the proposed action on Indiana bats include: (1) No trees cleared when Indiana bats may occupy maternity roosts; (2) permanent protection of 373 acres of existing Indiana bat habitat; (3) 346 acres hardwood seedlings will be planted and protected in perpetuity; (4) the Indiana bat population response to the proposed construction and mitigation will be monitored for 15 years and mitigation plantings will be monitored for 5 years; and (5) the applicants will work with the Service to develop and implement an outreach program to educate the public regarding the Indiana bat.

Background on Environmental Assessment

The Proposed Action consists of issuing an ITP and implementation of the HCP. The draft EA considers two action alternatives and the “No Action” alternative. The NEPA process will be completed after the comment period, at which time the Service will evaluate the permit application (if appropriate to the selected alternative), the HCP, and comments submitted thereon to determine whether the application meets the requirements of section 10(a) of the Act. If the requirements are met, the Service will issue a permit to the Interagency Task Force for the incidental take of Indiana bat associated with the proposed activities in Marion and Hendricks Counties, Indiana. The final permit decision will be made no sooner than 60 days from the date of this notice.

The area encompassed by the HCP may contain facilities eligible to be listed on the National Register of Historic Places and other historical or archeological resources may be present. The National Historic Preservation Act and other laws require these properties and resources be identified and considered in project planning. The public is requested to inform the Service of concerns about archeological sites, buildings and structures, historic events, sacred and traditional areas, and other historic preservation concerns.

Dated: November 9, 2001.
Charles M. Wooley,
Assistant Regional Director, Ecological Services, Region 3, Fort Snelling, Minnesota.

[FR Doc. 01-28912 Filed 11-19-01; 8:45 am]

BILLING CODE 4310-55-P